NATIONAL AERONAUTICS AND SPACE ADMINSTRATION

[Notice 05-107]

Return to Flight Task Group; Meeting

AGENCY: National Aeronautics and Space Administration (NASA).

ACTION: Notice of meeting.

SUMMARY: In accordance with the Federal Advisory Committee Act, Public Law 92-463, as amended, the National Aeronautics and Space Administration announces a meeting of the Return to Flight Task Group (RTF TG).

DATES: Monday June 27, 2005, from 1 p.m. until 3 p.m. eastern daylight time.

ADDRESSES: Residence Inn Capitol, 333 E Street SW., Washington DC 20024. The meeting will be held in the Capitol Room.

FOR FURTHER INFORMATION CONTACT: Mr. Vincent D. Watkins at (281) 792-7523.

Rationale for Exception to Less Than 15 Day Notice: This event is directly related to scheduling constraints imposed by the nation's Space Shuttle Program return to flight launch activities. Critical data necessary for the Task Group to complete its assessment was made available based on necessary milestones required for the agency to ensure a safe return to flight. The proximity of those milestones to the new STS-114 launch date prevents the Task Group from scheduling its last public meeting within the 15 day notice requirement.

SUPPLEMENTARY INFORMATION: The meeting will be open to the public up to the seating capacity of the meeting room. Attendees will be requested to sign a register. Audio of the meeting will be distributed via the Internet at http://returntoflight.org.

The agenda for the meeting is as follows:

—Welcome remarks from Co-Chair

—Discussion of status of NASA's implementation of selected Columbia Accident Investigation Board return to flight recommendations

—Action item summary from Executive Secretary

—Closing remarks from Co-Chair

It is imperative that the meeting be held on this date to accommodate the scheduling priorities of the key participants.

P. Diane Rausch,
Advisory Committee Management Officer, National Aeronautics and Space Administration.

[FR Doc. 05-12594 Filed 6-23-05; 8:45 am]

BILLING CODE 7510-13-P